DEPARTMENT OF HEALTH AND HUMAN SERVICES

Food and Drug Administration

[Docket Nos. FDA-2002-N-0314; FDA-2018-N-0405; FDA-2018-N-0270; and FDA-2021-N-0359]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10 a.m.-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control number | Date approval expires
Request for Samples and Protocols | 0910-0206 | 9/30/2024
Medical Device Recall Authority | 0910-0432 | 9/30/2024
Survey on the Occurrence of Foodborne Illness Risk Factors in Selected Institutional Foodservice and Retail Food Stores Facility Types | 0910-0799 | 9/30/2024
Human Drug Compounding, Repackaging and Related Activities Regarding Sections 503A and 503B of the Federal Food, Drug, and Cosmetic Act | 0910-0858 | 9/30/2024

Dated: December 22, 2021.
Lauren K. Roth,
Associate Commissioner for Policy.

[FR Doc. 2021-28299 Filed 12-28-21; 8:45 am]

BILLING CODE 4164-01-P782